DEPARTMENT OF LABOR

Employment and Training Administration

[TA-W-37,518]

Lucky Star Industries, Workers Employed at Double “L” Learning Center, Nettleton, MS; Notice of Termination of Investigation

Pursuant to section 221 of the Trade Act of 1974, an investigation was initiated on March 27, 2000 in response to a worker petition which was filed on behalf of workers at Double “L” Learning Center who were employees of Lucky Star Industries, Nettleton, Mississippi.

The petitioning group of workers are covered under an existing Trade Adjustment Assistance certification, TA-W-35,320A, which is valid through March 23, 2001. Consequently, further investigation in this case would serve no purpose, and the investigation has been terminated.

Signed at Washington, D.C., this 13th day of April 2000.
Grant D. Beale,
Program Manager, Office of Trade Adjustment Assistance.

[FR Doc. 00-10583 Filed 4-27-00; 8:45 am]

BILLING CODE 4510-30-M